DEPARTMENT OF ENERGY

Federal Energy Regulatory Commission

[Project No. 2790-064]

Boott Hydropower, Inc.; Eldred L. Field Hydro Facility Trust; Notice of Application for Partial Transfer of License and Soliciting Comments, Motions to Intervene, and Protests

On October 9, 2015, Boott Hydropower, Inc., co-licensee and Eldred L. Field Hydro Facility Trust, co-licensee (transferors) jointly filed an application for the partial transfer of the license of the Lowell Hydroelectric Project No. 2790 to remove as co-licensee Eldred L. Hydro Facility Trust and to convert Boott Hydropower, Inc. to an LLC. The project is located on the Merrimack River in Middlesex County, Massachusetts.

Boott Hydropower, Inc. is a subsidiary of Enel Green Power North America, Inc. As part of an internal reorganization Boott Hydropower, Inc. intends to convert to an LLC, (Boott Hydropower, LLC). Boott Hydropower, Inc. seeks Commission approval to transfer the license for the Lowell Hydroelectric Project to Boott Hydropower, LLC as sole licensee in association with the conversion, effective on the date Boott Hydropower, LLC submits certified copies of its articles of conversion, plan of conversion, and limited liability company operating agreement to the Commission.

Applicant Contact: For Applicants: Ms. Megan Beauregard, Senior Associate General Counsel, Enel Green Power North America, Inc., One Tech Drive, Suite 220, Andover, MA 01810, telephone: 978-681-1900, email: megan.beauregard@enel.com.

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2790-064.

Dated: October 22, 2015.
Kimberly D. Bose,
Secretary.

[FR Doc. 2015-27404 Filed 10-27-15; 8:45 am]

BILLING CODE 6717-01-P